DEPARTMENT OF TRANSPORTATION

Office of the Secretary

Notice of Applications for Certificates of Public Convenience and Necessity and Foreign Air Carrier Permits Filed Under Subpart B (Formerly Subpart Q) During the Week Ending October 15, 2004

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2004-19368.

Date Filed: October 12, 2004.

Due Date for Answers, Conforming Applications, or Motion to Modify Scope: November 2, 2004.

Description: Application of Arctic Circle Air Service, Inc., requesting the transfer and subsequent surrender of a purchased certificate of public convenience and necessity authorizing interstate scheduled air transportation pursuant to section 41102 of Title 49 of the United States Code.

Docket Number: OST-2004-19398.

Date Filed: October 13, 2004.

Due Date for Answers, Conforming Applications, or Motion to Modify Scope: November 3, 2004.

Description: Application of Tradewinds Airlines, Inc., requesting a certificate of public convenience and necessity authorizing it to engage in scheduled foreign air transportation of property and mail to and from the countries that have concluded Open Skies Air Services Agreements with the United States.

Andrea M. Jenkins,
Program Manager, Docket Operations, Federal Register Liaison.

[FR Doc. 04-24059 Filed 10-26-04; 8:45 am]

BILLING CODE 4910-62-P